DEPARTMENT OF ENERGY

Western Area Power Administration

Loveland Area Projects—Order Confirming and Approving an Extension of the Firm Electric Service Rate—Rate Order WAPA No. 103

AGENCY: Western Area Power Administration, DOE.

ACTION: Notice of rate order.

SUMMARY: This action is to extend the existing Loveland Area Projects (LAP) firm electric service rate through March 31, 2004. Without this action, the existing firm electric service rate will expire September 30, 2003, and no rate will be in effect for this service.

FOR FURTHER INFORMATION CONTACT: Mr. Daniel T. Payton, Rates Manager, Rocky Mountain Customer Service Region, Western Area Power Administration, PO Box 3700, Loveland, CO 80539-3003, (970) 461-7442, or e-mail dpayton@wapa.gov.

SUPPLEMENTARY INFORMATION: By Delegation Order No. 00-037.00 approved December 6, 2001, the Secretary delegated: (1) The authority to develop power and transmission rates on a non-exclusive basis to the Administrator of the Western Area Power Administration (Western); (2) the authority to confirm, approve, and place such rates into effect on an interim basis to the Deputy Secretary; and (3) the authority to confirm, approve, and place into effect on a final basis, to remand, or to disapprove such rates to the Federal Energy Regulatory Commission (FERC).

The existing rate, Rate Order No. WAPA-61, was approved for a 5-year period, beginning February 1, 1994, and ending January 31, 1999. Rate Order No. WAPA-82 extended the existing rate for a 2-year period, beginning February 1, 1999, through January 31, 2001. Rate Order No. WAPA-89 extended the rate again through September 30, 2003.

Western's Rocky Mountain Customer Service Region is entering a public process to modify the firm electric service rate for Loveland Area Projects. Western seeks this extension to provide more time to evaluate cost and revenue projections and to assess the impact of the ongoing drought in the West. The evaluation period and public process will take more than 6 months to complete, including both informal and formal public forums. Therefore, time requirements make it necessary to extend the current rate pursuant to 10 CFR part 903.23. Upon its approval, Rate Order No. WAPA-61, previously extended under Rate Order No. WAPA-82 and Rate Order No. WAPA-89, will be extended under Rate Order No. WAPA-103.

I approved Rate Order No. WAPA-103 after DOE reviewed Western's proposal. My approval extends the existing LAP firm electric service rate, Rate Schedule L-F4, through March 31, 2004.

Dated: May 14, 2003.
Kyle E. McSlarrow,
Deputy Secretary.

This firm electric service rate was established following section 302(a) of the Department of Energy (DOE) Organization Act, 42 U.S.C. 7152(a). This act transferred to and vested in the Secretary of Energy (Secretary) the power marketing functions of the Secretary of the Department of the Interior and the Bureau of Reclamation under the Reclamation Act of 1902, ch. 1093, 32 Stat. 388, as amended and supplemented by subsequent enactments, particularly section 9(c) of the Reclamation Project Act of 1939, 43 U.S.C. 485h(c), and other acts that specifically apply to the project system involved.

By Delegation Order No. 00-037.00 approved December 6, 2001, the Secretary delegated: (1) The authority to develop power and transmission rates on a non-exclusive basis to the Administrator of the Western Area Power Adminstration (Western); (2) the authority to confirm, approve, and place such rates into effect on an interim basis to the Deputy Secretary; and (3) the authority to confirm, approve, and place into effect on a final basis, to remand, or to disapprove such rates to the Federal Energy Regulatory Commission (FERC). This rate extension is issued following the Delegation Order and the DOE rate extension procedures at 10 CFR part 903.23(b).

Background

The existing rate, Rate Order No. WAPA-61, was approved for 5 years, beginning February 1, 1994, and ending January 31, 1999. Rate Order No. WAPA-82 extended the existing rate for 2 years, beginning February 1, 1999, through January 31, 2001. Rate Order No. WAPA-89 extended the rate again beginning February 1, 2001, through September 30, 2003.

Discussion

Western's Rocky Mountain Customer Service Region is entering a public process to modify the firm electric service rate for Loveland Area Projects. Western seeks this extension to provide more time to evaluate cost and revenue projections and to assess the impact of the ongoing drought in the West on energy production and purchase power expenses. The evaluation period and public process will take more than 6 months to complete, including both informal and formal public forums. Therefore, time requirements make it necessary to extend the current rate pursuant to 10 CFR part 903.23. Upon its approval, Rate Order No. WAPA-61, previously extended under Rate Order No. WAPA-82 and Rate Order No. WAPA-89 will be extended under Rate Order No. WAPA-103.

Order

In view of the above and under the authority delegated to me by the Secretary, I hereby extend the existing Rate Schedule L-F4 for firm electric service from October 1, 2003, through March 31, 2004.

Dated: May 14, 2003.
Kyle E. McSlarrow,
Deputy Secretary.

[FR Doc. 03-13856 Filed 6-2-03; 8:45 am]

BILLING CODE 6450-01-P